DEPARTMENT OF LABOR

Employment and Training Administration

[TA-W-50,461]

VF Jeanswear Limited Partnership, a Subsidiary of VF Corporation Sewing Facility (1900 Industrial Drive); Lebanon, MO; Notice of Termination of Investigation

Pursuant to section 221 of the Trade Act of 1974, as amended, an investigation was initiated on January 3, 2003, in response to a worker petition filed by a company official on behalf of workers VF Jeanswear Limited Partnership, a subsidiary of VF Corporation, Sewing Facility (1900 Industrial Drive), Lebanon, Missouri.

The petitioning group of workers is covered by an active certification issued on December 20, 2002, and which remains in effect (TA-W-50,061A). Consequently, further investigation in this case would serve no purpose, and the investigation has been terminated.

Signed in Washington, DC, this 10th day of January, 2003.
Linda G. Poole,
Certifying Officer, Division of Trade Adjustment Assistance.

[FR Doc. 03-2557 Filed 2-3-03; 8:45 am]

BILLING CODE 4510-30-P